DEPARTMENT OF AGRICULTURE

Agricultural Marketing Service

[DA-00-10A]

Milk for Manufacturing Purposes and Its Production and Processing; Requirements Recommended for Adoption by State Regulatory Agencies

AGENCY: Agricultural Marketing Service, USDA.

ACTION: Notice.

SUMMARY: This document amends the recommended manufacturing milk requirements (Recommended Requirements) by updating the existing drug residue monitoring program. The amendment provides State regulatory agencies and the dairy industry with updated guidance in carrying out sampling, testing, and monitoring activities relating to drug residues in manufacturing grade milk. The amendment to update the drug residue monitoring program was initiated at the request of the Dairy Division of the National Association of State Departments of Agriculture (NASDA) and developed in cooperation with NASDA, the Food and Drug Administration (FDA), dairy trade associations, and producer groups. This document also makes final certain other changes to the Recommended Requirements for clarity and consistency.

EFFECTIVE DATE: June 17, 2002.

FOR FURTHER INFORMATION CONTACT: Duane R. Spomer, Associate Deputy Administrator for Standards and Grading, AMS/USDA/Dairy Programs, Room 2746 South Building, P.O. Box 96456, Washington, DC 20090-6456, telephone (202) 720-3171, email Duane.Spomer@usda.gov.

SUPPLEMENTARY INFORMATION: Under the authority of the Agricultural Marketing Act of 1946, as amended (7 U.S.C. 1621-1627), the United States Department of Agriculture (USDA) maintains a set of model regulations relating to quality and sanitation requirements for the production and processing of manufacturing grade milk. These Recommended Requirements are developed by AMS and recommended for adoption and enforcement by the various States that regulate manufacturing grade milk. The purpose of the model requirements is to promote uniformity in State dairy laws and regulations relating to manufacturing grade milk.

In consultation with representatives from NASDA, State regulatory agencies, FDA, and dairy industry trade associations, the Department prepared the Recommended Requirements to promote uniformity in State dairy laws and regulations for manufacturing grade milk. To accommodate changes that have occurred in the dairy industry, NASDA and various State officials have at times requested USDA to update the Recommended Requirements.

On May 6, 1993, AMS updated the existing Recommended Requirements and incorporated an expanded drug residue monitoring program based on drug residue provisions for Grade A milk produced under the National Conference on Interstate Milk Shipments (NCIMS) cooperative program (58 FR 26950). Within the NCIMS program, FDA, State regulatory agencies, consumers, and the dairy industry cooperatively develop and modify model regulations that are used to regulate Grade A milk. Since 1993 several drug residue monitoring changes have occurred in the Grade A milk model program.

During its July 1999 annual meeting, the Dairy Division of NASDA passed a resolution requesting USDA to review the drug residue provisions of the Recommended Requirements and update this document to provide greater consistency with the drug residue requirements currently in place for Grade A milk. AMS reviewed these provisions and developed a draft that identified the changes associated with this request. This draft was provided to State regulatory officials and dairy trade association representatives for informal discussion prior to publication in the Federal Register. Subsequently, a Notice of Proposal to Change the document, “Milk for Manufacturing Purposes and Its Production and Processing; Requirements Recommended for Adoption by State Regulatory Agencies,” was published in the Federal Register on April 20, 2001 (66 FR 20226). The Notice of Proposal to Change the document provided for a 60-day comment period that ended on June 19, 2001. No comments were received.

Accordingly, the changes proposed in the Milk for Manufacturing Purposes and Its Production and Processing: Requirements Recommended for Adoption by State Regulatory Agencies are incorporated in the revised Recommended Requirements.

The Recommended Requirements (incorporating the changes herein adopted) are available either from the above address or by accessing the information on the Internet at the following address: http://www.ams.usda.gov/dairy/manufmlk.pdf.

Authority: (7 U.S.C. 1621-1627)

Dated: June 10, 2002.
A.J. Yates,
Administrator, Agricultural Marketing Service.

[FR Doc. 02-15065 Filed 6-13-02; 8:45 am]

BILLING CODE 3410-02-P